DEPARTMENT OF COMMERCE

National Oceanic and Atmospheric Administration

15 CFR Part 922

National Marine Sanctuary Program Regulations

CFR Correction

This rule is being published by the Office of the Federal Register to correct an editorial or technical error that appeared in the most recent annual revision of the Code of Federal Regulations.

In Title 15 of the Code of Federal Regulations, Part 800 to End, revised as of January 1, 2024, amend § 922.132(f) by adding a second to last sentence to read as follows:

§ 922.132 Prohibited or otherwise regulated activities.

* * * * *

(f) * * * For the purposes of this subpart, the disposal of dredged material does not include the beneficial use of dredged material as defined by § 922.131. * * *

* * * * *

[FR Doc. 2024-27869 Filed 11-25-24; 8:45 am]

BILLING CODE 0099-10-P